DEPARTMENT OF EDUCATION

Safe Schools/Healthy Students Program; Office of Safe and Drug-Free Schools; Safe Schools/Healthy Students Program; Catalog of Federal Domestic Assistance (CFDA) Numbers: 84.184J and 84.184L

ACTION: Correction; Notice of proposed priorities, requirements, and definitions.

SUMMARY: On February 18, 2011, we published in the Federal Register (76 FR 9562) a notice proposing priorities, requirements, and definitions under the Safe Schools/Healthy Students (SS/HS) program. Since publication, however, we have found an error in the notice. We are correcting that error in this notice. Specifically, on page 9569 in the first column under the Background section for Proposed Full Application Requirement 8—Post-Award Requirements' item number four, the parenthetical phrase “(as defined in this notice)” is deleted as the notice does not propose a definition for social marketing.

FOR FURTHER INFORMATION CONTACT: Karen Dorsey. Telephone: (202) 245-7858 or by e-mail: Karen.dorsey@ed.gov.

If you use a telecommunications device for the deaf (TDD), call the Federal Relay Service (FRS), toll free, at 1-800-877-8339.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 3, 2011.
Kevin Jennings,
Assistant Deputy Secretary for Safe and Drug-Free Schools.

[FR Doc. 2011-5243 Filed 3-7-11; 8:45 am]

BILLING CODE 4000-01-P